ENVIRONMENTAL PROTECTION AGENCY

[ER-FRL-8986-4]

Environmental Impacts Statements; Notice of Availability

Responsible Agency: Office of Federal Activities, General Information (202) 564-1399 or http://www.epa.gov/compliance/nepa/.

Weekly receipt of Environmental Impact Statements.

Filed 11/30/2009 Through 12/04/2009.

Pursuant to 40 CFR 1506.9.

EIS No. 20090413, Final EIS, USFS, NV, Martin Basin Rangeland Project, Reauthorizing Grazing on Eight Existing Cattle and Horse Allotments: Bradshaw, Buffalo, Buttermilk, Granite Peak, Indian, Martin Basin, Rebel Creek, and West Side Flat Creek, Santa Rosa Ranger District, Humboldt-Toiyabe National Forest, NV, Wait Period Ends: 01/11/2010, Contact: Vernon Keller 775-355-5056.

EIS No. 20090414, Draft EIS, USFS, UT, Tropic to Hatch 138kV Transmission Line Project, Proposing Construction of a new 138 kV transmission Line that would replace some or all the existing 69 kV Transmission Line, Applications for Special-Use Permits and/or Right-of-Way Grants, Grand Staircase-Escalante National Monument Management Plan Amendment, Garfield County, UT, Comment Period Ends: 03/10/2010, Contact: Susan Baughman 435-865-3703.

EIS No. 20090415, Final EIS, FHWA, MI, Detroit Intermodal Freight Terminal (DIFT) Project, Proposes Improvement to Intermodal Freight Terminals in Wayne and Oakland Counties, MI, Wait Period Ends: 01/11/2010, Contact: David T. Williams 517-702-1820.

EIS No. 20090416, Final EIS, USMC, NC, U.S. Marine Corps Grow the Force at MCB Camp Lejeune, MCAS New River, and MCAS Cherry Point, To Provide the Infrastructure to Support the Permanent Increases at these three Installation, US Army Corps Section 404 and 10 Permits, City of Jacksonville, NC, Wait Period Ends: 01/11/2010, Contact: Michael H. Jones 757-322-4942.

EIS No. 20090417, Final EIS, NOAA, 00, Comprehensive Ecosystem-Base Amendment 1 (CE-BA 1) for the South Atlantic Region, Implementation, Wait Period Ends: 01/11/2010, Contact: Roy E. Crabtree, PhD 727-824-5305

EIS No. 20090418, Draft EIS, USACE, NC, The Town of Nags Head Beach Nourishment Project, Propose to Utilize a Self-Contained Hooper Dredge and Other Feasible Dredging Equipment during a Proposed Construction Window from April through September, Dare County, NC, Comment Period Ends: 01/25/2010, Contact: Raleigh Bland 910-251-4564.

EIS No. 20090419, Draft EIS, USACE, MN, U.S. Steel Keetac Taconite Mine Expansion Project, Propose to Restart an Idled Production Line and Expand Contiguous Sections of the Open Pit Iron Ore Mine, located near Keewatin, Itasca and St. Louis Counties, MN, Comment Period Ends: 01/27/2010, Contact: Ralph Augustin 651-290-5378.

EIS No. 20090420, Final EIS, FHWA, IN, I-69 Evansville to Indianapolis, Indiana Project, Section 3, Washington to Crane NSWC (US 50 to US 231), Daviess, Greene, Knox and Martin Counties, IN, Wait Period Ends: 01/11/2010, Contact: Janice Osadczuk 317-226-7486.

EIS No. 20090421, Draft Supplement, NRC, WY, Moore Ranch In-Situ Uranium Recovery (ISR) Project, Proposal to Construct, Operate, Conduct Aquifer Restoration, and Decommission an In-Situ Recovery (ISR) Facility, NUREG-1910, Campbell County, WY, Comment Period Ends: 02/01/2010, Contact: Behram Shroff 301-415-0666.

EIS No. 20090422, Final EIS, BR, KS, Equus Beds Aquifer Storage Recharge and Recovery Project, To Provide Municipal and Industrial (M&I) Water to City and Surrounding Region, Equus Beds Division, Wichita Project, Kansas, Harvey, Sedgwick, and Reno Counties, KS, Wait Period Ends: 01/11/2010, Contact: Charles F. Webster 405-470-4831.

EIS No. 20090423, Second Draft Supplement, NRC, WY, Nichols Ranch In-Situ Uranium Recovery (ISR) Project, Proposal to Construct, Operate, Conduct Aquifer Restoration, and Decommission and In-Situ Recovery Uranium Milling Facility, Campbell and Johnson Counties, WY, Comment Period Ends: 02/01/2010, Contact: Irene Yu 301-415-1951.

EIS No. 20090424, Draft EIS, USN, AK, Gulf of Alaska Navy Training Activities, Proposal to Support and Conduct Current, Emering, and Future Training Activities, Implementation, Gulf of Alaska, AK, Comment Period Ends: 01/25/2010, Contact: Amy Burt 360-396-9024.

EIS No. 20090425, Third Draft Supplement, NRC, WY, Lost Creek In-Situ Uranium Recovery (ISR) Project, Proposal to Construct, Operate, Conduit Aquifer Restoration, and Decommission an In-Situ Recovery (ISR) Uranium Milling Facility, Sweetwater County, WY, Comment Period Ends: 02/01/2010, Contact: Alan B. Bjornsen 301-415-1195.

EIS No. 20090426, Draft EIS, FRA, VA, Richmond and the Hampton Roads Passenger Rail Project, Proposed Higher Speed Intercity Passenger Rail, VA, Comment Period Ends: 01/25/2010, Contact: John Winkle 202-493-6067.

EIS No. 20090427, Final EIS, NPS, MN, Disposition of Bureau of Mines Property, Twin Cities Research Center Main Campus, Implementation, Hennepin County, MN, Wait Period Ends: 01/11/2010, Contact: Steven P. Johnson 651-290-3030 Ext. 223.

Amended Notices

EIS No. 20090312, Draft EIS, USACE, OH, Cleveland Harbor Dredged Material Management Plan, Operations and Maintenance, Cuyahoga County, OH, Comment Period Ends: 02/01/2010, Contact: Frank O'Connor 716-879-4131. Revision to FR Notice Published 09/11/2009: Extending Comment Period from 12/07/2009 to 02/01/2010.

EIS No. 20090394, Draft EIS, USN, GU, Guam and Commonwealth of the Northern Mariana Islands (CNMI) Military Relocation, Proposed Relocating Marines from Okinawa, Visiting Aircraft Carrier Berthing, and Army Air and Missile Defense Task Force, Implementation, GU, Comment Period Ends: 02/17/2010, Contact: Kyle Fujimoto 808-472-1442. Revision to FR Notice Published 11/20/2009: Disregard the FR Notice of 11/28/2009: Correction to Comment Period from 01/04/2010 to 02/17/2010.

Dated: 12/08/2009.
Robert W. Hargrove,
Director, NEPA Compliance Division, Office of Federal Activities.

[FR Doc. E9-29562 Filed 12-10-09; 8:45 am]

BILLING CODE 6560-50-P